DEPARTMENT OF DEFENSE

Office of the Secretary

Charter Renewal of Department of Defense Federal Advisory Committees

AGENCY: Department of Defense.

ACTION: Renewal of federal advisory committee.

SUMMARY: The Department of Defense is publishing this notice to announce that it is renewing the charter for the Department of Defense Military Family Readiness Council (“the Council”).

FOR FURTHER INFORMATION CONTACT: Jim Freeman, Advisory Committee Management Officer for the Department of Defense, 703-692-5952.

SUPPLEMENTARY INFORMATION: The Council's charter is being renewed pursuant to 10 U.S.C. 1781a, and in accordance with the Federal Advisory Committee Act (FACA) of 1972 (5 U.S.C., App) and 41 CFR 102-3.50(a). The Council's charter and contact information for the Council's Designated Federal Officer (DFO) can be found at https://www.facadatabase.gov/FACA/apex/FACAPublicAgencyNavigation.

The Council, pursuant to 10 U.S.C. 1781a(d), shall review and make recommendations to the Secretary of defense regarding the policy and plans required under 10 U.S.C. 1781b, monitor requirements for the support of military family readiness by the Department of Defense (DoD), and evaluate and assess the effectiveness of the military family readiness programs and activities of DoD. The Council, pursuant to 10 U.S.C. 1781a(e), shall no later than February 1st of each year, submit a report on military family readiness to the Secretary of Defense and the congressional defense committees. Each report, at a minimum, shall include the following: a. An assessment of the adequacy and effectiveness of the military family readiness programs and activities of the DoD during the preceding fiscal year in meeting the needs and requirement of military families. b. Recommendations on actions to be taken to improve the capability of the military family readiness programs and activities of the DoD to meet the needs and requirements of military families, including actions relating to the allocation of funding and other resources to and among such programs and activities.

The Council, pursuant to 10 U.S.C. 1781a(b), shall be composed of 18 members. All members of the Council are appointed to provide advice on the basis of their best judgment and without representing any particular point of view and in a manner that is free from conflict of interest. Except for reimbursement of official Council-related travel and per diem, Council members serve without compensation.

The public or interested organizations may submit written statements to the Council membership about the Council's mission and functions. Written statements may be submitted at any time or in response to the stated agenda of planned meeting of the Council. All written statements shall be submitted to the DFO for the Council, and this individual will ensure that the written statements are provided to the membership for their consideration.

Dated: December 7, 2018.
Shelly Finke,
Alternate OSD Federal Register, Liaison Officer, Department of Defense.

[FR Doc. 2018-27271 Filed 12-17-18; 8:45 am]

BILLING CODE 5001-06-P